DEPARTMENT OF ENERGY

Federal Energy Regulatory Commission

Combined Notice of Filings #1

Take notice that the Commission received the following electric rate filings:

Docket Numbers: ER15-1067-002.

Applicants: Midcontinent Independent System Operator, Inc.

Description: Compliance filing per 35: 2015-06-05_MMTG RTO Adder Compliance Supplement to be effective 6/16/2015.

Filed Date: 6/5/15.

Accession Number: 20150605-5070.

Comments Due: 5 p.m. ET 6/26/15.

Docket Numbers: ER15-1410-002.

Applicants: San Diego Gas & Electric Company.

Description: Compliance filing per 35: Compliance Filing Appendix X Formula of TO Tariff to be effective 6/1/2015.

Filed Date: 6/4/15.

Accession Number: 20150604-5154.

Comments Due: 5 p.m. ET 6/25/15.

Docket Numbers: ER15-1496-001.

Applicants: 2014 ESA Project Company, LLC.

Description: Tariff Amendment per 35.17(b): 2014 ESA Project Company, LLC—Supplemental MBR Filing to be effective 6/4/2015.

Filed Date: 6/4/15.

Accession Number: 20150604-5176.

Comments Due: 5 p.m. ET 6/18/15.

Docket Numbers: ER15-1858-000.

Applicants: Southern California Edison Company.

Description: § 205(d) rate filing per 35.13(a)(2)(iii): Cert of Concurrence ANPP IA APS, LADWP, El Paso, PSC Nex Mexico, SRP, SCPPA, SCE to be effective 5/21/2015.

Filed Date: 6/5/15.

Accession Number: 20150605-5007.

Comments Due: 5 p.m. ET 6/26/15.

Docket Numbers: ER15-1859-000.

Applicants: Southwest Power Pool, Inc.

Description: § 205(d) rate filing per 35.13(a)(2)(iii): 2900R3 KMEA NITSA NOA to be effective 6/1/2015.

Filed Date: 6/5/15.

Accession Number: 20150605-5069.

Comments Due: 5 p.m. ET 6/26/15.

Docket Numbers: ER15-1860-000.

Applicants: Tucson Electric Power Company.

Description: § 205(d) rate filing per 35.13(a)(2)(iii): Transmission Service Agreement Nos. 218 and 267 to be effective 9/16/2010.

Filed Date: 6/5/15.

Accession Number: 20150605-5079.

Comments Due: 5 p.m. ET 6/26/15.

Docket Numbers: ER15-1861-000.

Applicants: Tucson Electric Power Company.

Description: § 205(d) rate filing per 35.13(a)(2)(iii): OATT Service Agreements to be effective 9/16/2010.

Filed Date: 6/5/15.

Accession Number: 20150605-5080.

Comments Due: 5 p.m. ET 6/26/15.

Docket Numbers: ER15-1862-000.

Applicants: Tucson Electric Power Company.

Description: § 205(d) rate filing per 35.13(a)(2)(iii): OATT Service Agreements to be effective 8/5/2015.

Filed Date: 6/5/15.

Accession Number: 20150605-5081.

Comments Due: 5 p.m. ET 6/26/15.

Docket Numbers: ER15-1863-000.

Applicants: PJM Interconnection, L.L.C.

Description: Tariff Withdrawal per 35.15: Notice of Cancellation of SA No. 3237; Queue No. W4-093 to be effective 7/6/2015.

Filed Date: 6/5/15.

Accession Number: 20150605-5082.

Comments Due: 5 p.m. ET 6/26/15.

Docket Numbers: ER15-1864-000.

Applicants: Alabama Power Company.

Description: § 205(d) rate filing per 35.13(a)(2)(iii): Infigen Energy US Development LGIA Filing to be effective 5/26/2015.

Filed Date: 6/5/15.

Accession Number: 20150605-5106.

Comments Due: 5 p.m. ET 6/26/15.

Docket Numbers: ER15-1865-000.

Applicants: Tucson Electric Power Company.

Description: § 205(d) rate filing per 35.13(a)(2)(iii): Cancelled Service Agreements to be effective 8/5/2015.

Filed Date: 6/5/15.

Accession Number: 20150605-5107.

Comments Due: 5 p.m. ET 6/26/15.

Docket Numbers: ER15-1866-000.

Applicants: ISO New England Inc.

Description: ISO New England Inc. Resource Termination Filing—Efficiency Maine Trust.

Filed Date: 6/5/15.

Accession Number: 20150605-5111.

Comments Due: 5 p.m. ET 6/26/15.

Docket Numbers: ER15-1867-000

Applicants: ISO New England Inc.

Description: ISO New England Inc. Resource Termination—Direct Energy Business Marketing, LLC.

Filed Date: 6/5/15.

Accession Number: 20150605-5112.

Comments Due: 5 p.m. ET 6/26/15.

Docket Numbers: ER15-1868-000.

Applicants: Montour, LLC.

Description: Compliance filing per 35: Succession Notice & Certification of Concurrance—Conemaugh to be effective 6/5/2015.

Filed Date: 6/5/15.

Accession Number: 20150605-5116.

Comments Due: 5 p.m. ET 6/26/15.

Docket Numbers: ER15-1869-000.

Applicants: PJM Interconnection, L.L.C.

Description: Tariff Withdrawal per 35.15: Notice of Cancellation of WMPA SA No. 3204; Queue W3-149 to be effective 7/6/2015.

Filed Date: 6/5/15.

Accession Number: 20150605-5118.

Comments Due: 5 p.m. ET 6/26/15.

Docket Numbers: ER15-1870-000.

Applicants: Southwest Power Pool, Inc.

Description: § 205(d) rate filing per 35.13(a)(2)(iii): 1065R4 Tex-La Electric Cooperative of Texas NITSA and NOA to be effective 6/1/2015.

Filed Date: 6/5/15.

Accession Number: 20150605-5120.

Comments Due: 5 p.m. ET 6/26/15.

Docket Numbers: ER15-1871-000.

Applicants: Arizona Public Service Company.

Description: § 205(d) rate filing per 35.13(a)(2)(iii): Service Agreement Nos. 344 and 345, Agreements with CSE and S&R to be effective 5/12/2015.

Filed Date: 6/5/15.

Accession Number: 20150605-5122.

Comments Due: 5 p.m. ET 6/26/15.

Docket Numbers: ER15-1872-000.

Applicants: Montour, LLC.

Description: Compliance filing per 35: Succession Notice & Certification of Concurrance—Keystone to be effective 6/5/2015.

Filed Date: 6/5/15.

Accession Number: 20150605-5127.

Comments Due: 5 p.m. ET 6/26/15.

Docket Numbers: ER15-1873-000.

Applicants: Buckeye Wind Energy LLC.

Description: Initial rate filing per 35.12 Application for Market-Based Rate Authorization to be effective 8/5/2015.

Filed Date: 6/5/15.

Accession Number: 20150605-5141.

Comments Due: 5 p.m. ET 6/26/15.

Docket Numbers: ER15-1873-001.

Applicants: Buckeye Wind Energy LLC.

Description: Tariff Amendment per 35.17(b): Supplement to Market-Based Rate Application to be effective 8/5/2015.

Filed Date: 6/5/15.

Accession Number: 20150605-5148.

Comments Due: 5 p.m. ET 6/26/15.

Docket Numbers: ER15-1874-000.

Applicants: PJM Interconnection, L.L.C.

Description: § 205(d) rate filing per 35.13(a)(2)(iii): Revisions to PJM-MISO JOA Attachment 3 re 35% Flowgates to be effective 8/4/2015.

Filed Date: 6/5/15.

Accession Number: 20150605-5146.

Comments Due: 5 p.m. ET 6/26/15.

Docket Numbers: ER15-1875-000.

Applicants: California Independent System Operator Corp.

Description: § 205(d) rate filing per 35.13(a)(2)(iii): 2015-06-05 Commitment Cost Enhancements Phase 2 to be effective 9/15/2015.

Filed Date: 6/5/15.

Accession Number: 20150605-5147.

Comments Due: 5 p.m. ET 6/26/15.

Docket Numbers: ER15-1876-000.

Applicants: Midcontinent Independent System Operator, Inc.

Description: § 205(d) rate filing per 35.13(a)(2)(iii): 2015-06-05_SA 6507 White Pine 1 SSR Agr Unanticipated Repairs to be effective 6/1/2016.

Filed Date: 6/5/15.

Accession Number: 20150605-5150.

Comments Due: 5 p.m. ET 6/26/15.

Take notice that the Commission received the following electric securities filings:

Docket Numbers: ES15-32-000

Applicants: Duquesne Light Company

Description: Application of Duquesne Light Company Pursuant to Section 204 of the Federal Power Act for an Order Authorizing the Issuance of Short-Term Indebtedness.

Filed Date: 6/5/15.

Accession Number: 20150605-5151.

Comments Due: 5 p.m. ET 6/26/15.

Take notice that the Commission received the following public utility holding company filings:

Docket Numbers: PH15-15-000.

Applicants: Starwood Energy Group Global, L.L.C.

Description: Starwood Energy Group Global, L.L.C. submits FERC 65-B Material Change in Facts of Waiver Notification.

Filed Date: 6/4/15.

Accession Number: 20150604-5211.

Comments Due: 5 p.m. ET 6/25/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 5, 2015.
Nathaniel J. Davis, Sr.,
Deputy Secretary.

[FR Doc. 2015-14387 Filed 6-11-15; 8:45 am]

BILLING CODE 6717-01-P